DEPARTMENT OF ENERGY

Federal Energy Regulatory Commission

Combined Notice of Filings #1

Take notice that the Commission received the following electric corporate filings:

Docket Numbers: EC16-13-000.

Applicants: Fowler Ridge IV Wind Farm LLC.

Description: Application for Authorization for Disposition of Jurisdictional Facilities and Requests for Waivers, Confidential Treatment, and Expedited Consideration of Fowler Ridge IV Wind Farm LLC.

Filed Date: 10/14/15.

Accession Number: 20151014-5342.

Comments Due: 5 p.m. ET 11/4/15.

Take notice that the Commission received the following electric rate filings:

Docket Numbers: ER16-76-000.

Applicants: PJM Interconnection, L.L.C.

Description: Section 205(d) Rate Filing: Revisions to OA Schedule 1 and OATT Att K-Appx RE Offer Caps to be effective 12/14/2015.

Filed Date: 10/14/15.

Accession Number: 20151014-5293.

Comments Due: 5 p.m. ET 11/4/15.

Docket Numbers: ER16-77-000.

Applicants: PJM Interconnection, L.L.C., American Electric Power Service Corporation.

Description: Section 205(d) Rate Filing: AEP submits Interconnection Agreement No. 4247 among AEP Indiana and NIPSC to be effective 7/1/2015.

Filed Date: 10/14/15.

Accession Number: 20151014-5315.

Comments Due: 5 p.m. ET 11/4/15.

Docket Numbers: ER16-78-000.

Applicants: Midcontinent Independent System Operator, Inc.

Description: Section 205(d) Rate Filing: 2015-10-14_SA 2856 MidAmerican Energy Company-Ida Grove Wind Energy GIA (J411) to be effective 10/15/2015.

Filed Date: 10/14/15.

Accession Number: 20151014-5317.

Comments Due: 5 p.m. ET 11/4/15.

Docket Numbers: ER16-79-000.

Applicants: New Dominion Energy Cooperative.

Description: Tariff Cancellation: Cancellation to be effective 12/14/2015.

Filed Date: 10/14/15.

Accession Number: 20151014-5319.

Comments Due: 5 p.m. ET 11/4/15.

Docket Numbers: ER16-80-000.

Applicants: PJM Interconnection, L.L.C., Pennsylvania Electric Company, West Penn Power Company, Trans-Allegheny Interstate Line Company.

Description: Section 205(d) Rate Filing: Trans-Allegheny Interstate Line Company et al. Filing of New Service Agreements to be effective 12/13/2015.

Filed Date: 10/14/15.

Accession Number: 20151014-5320.

Comments Due: 5 p.m. ET 11/4/15.

Docket Numbers: ER16-81-000.

Applicants: Huntley Power LLC.

Description: Section 205(d) Rate Filing: Unexecuted Cost-of-Service Agreement to be effective 3/1/2016.

Filed Date: 10/15/15.

Accession Number: 20151015-5006.

Comments Due: 5 p.m. ET 11/5/15.

Docket Numbers: ER16-82-000.

Applicants: Old Dominion Electric Cooperative.

Description: Notice of Cancellation of Original Volume No. 3 of Old Dominion Electric Cooperative.

Filed Date: 10/14/15.

Accession Number: 20151014-5346.

Comments Due: 5 p.m. ET 11/4/15.

Docket Numbers: ER16-83-000.

Applicants: PJM Interconnection, L.L.C.

Description: Section 205(d) Rate Filing: Original WMPA Service Agreement No. 4260, Queue No. AB1-022 to be effective 9/23/2015.

Filed Date: 10/15/15.

Accession Number: 20151015-5114.

Comments Due: 5 p.m. ET 11/5/15.

Docket Numbers: ER16-84-000.

Applicants: Midcontinent Independent System Operator, Inc.

Description: Section 205(d) Rate Filing: 2015-10-15_Add Consumers to Attachment FF-4 to be effective 1/1/2016.

Filed Date: 10/15/15.

Accession Number: 20151015-5128.

Comments Due: 5 p.m. ET 11/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2015.
Nathaniel J. Davis, Sr.,
Deputy Secretary.

[FR Doc. 2015-26711 Filed 10-20-15; 8:45 am]

BILLING CODE 6717-01-P